DEPARTMENT OF TRANSPORTATION

Federal Highway Administration

[Docket No. FHWA-2000-7957]

Agency Information Collection Activities; Request for Comments; Clearance of a New Information Collection: Highway Corridor Management Research

AGENCY: Federal Highway Administration (FHWA), DOT.

ACTION: Notice and request for comments.

SUMMARY: The FHWA invites public comments about our intention to request the Office of Management and Budget's (OMB) approval for a new information collection involving activities that States are using for highway corridor management. Highway corridor management encompasses land acquisition, land owner agreements, land-use regulations, driveway management, and real property income agreements. Public agencies use corridor management to implement comprehensive plans, and minimize land use conflicts. The primary purpose of corridor management is to provide for future road construction, and to protect existing road safety and capacity. The Paperwork Reduction Act requires this notice to be published in the Federal Register.

DATES: Please submit comments by November 27, 2000.

ADDRESSES: You may mail or hand deliver comments to the U.S. Department of Transportation, Dockets Management Facility, Room PL-401, 400 Seventh Street, SW., Washington, DC 20590; telefax comments to 202/493-2251; or submit electronically at http://dmses.dot.gov/submit. All comments should include the docket number in this notice's heading. All comments may be examined and copied at the above address from 9 a.m. to 5 p.m., e.t., Monday through Friday, except Federal holidays. If you desire a receipt, you must include a self-addressed stamped envelope or postcard or, if you submit your comments electronically, you may print the acknowledgment page.

FOR FURTHER INFORMATION CONTACT: Ms. Lannie M. Graham, 202-366-2039, Office of Real Estate Services, Federal Highway Administration, Department of Transportation, 400 Seventh Street, SW., Washington, DC 20590. Office hours are from 7:30 a.m. to 5:00 p.m., e.t., Monday through Friday, except Federal holidays.

SUPPLEMENTARY INFORMATION: Title: Highway Corridor Management Research.

Background: The Transportation Equity Act for the 21st Century provides funding for expansion of selected Interstate corridors, such as I-69 which is a planned uniform connection between Michigan and Texas. The recently published FHWA regulations in 23 CFR Part 710 allow States to acquire real property in advance of road construction as long as specific performance criteria are met. In addition, 23 U.S.C. 156 requires States to charge fair market value for use of highway real property. FHWA proposes to send questionnaires to State, metropolitan, and local public agency officials to request information that will be used to document how transportation agencies are coordinating legislative allowances, financial capabilities, and management opportunities to successfully implement corridor management procedures.

The FHWA surveys will collect both historical information and the current status of State and local highway corridor activities. Multiple case studies may be conducted in situations where States have multiple case examples. The collected information will be compiled for presentation at FHWA education workshops, conferences, and distributed through electronic means such as the Internet, CD-ROMs, video tapes, and audio recordings.

Respondents: Approximately 25 per State will include State, metropolitan, and local public agency officials associated with corridor management activities in the 50 States.

Frequency: This is a one-time survey conducted at multiple sites over a three-year period. A one-time, followup, survey may be required in selected circumstances.

Estimated Average Burden per Response: 45 minutes.

Estimated Total Annual Burden: 950 hours.

Public Comments Invited

You are asked to comment on any aspect of this information collection, including: (1) Whether the proposed collection is necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of this information collection.

Electronic Access

Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Authority: The Paperwork Reduction Act of 1995; 44 U.S.C. Chapter 35, as amended; and 49 CFR 1.48.

Issued on: September 21, 2000.
James R. Kabel,
Chief, Management Programs and Analysis Division.

[FR Doc. 00-24743 Filed 9-26-00; 8:45 am]

BILLING CODE 4910-22-U